OFFICE OF PERSONNEL MANAGEMENT

Notice of Relaxed Rules for the Federal Long Term Care Insurance Program Open Season

AGENCY: Office of Personnel Management.

ACTION: Notice of relaxed rules for the Federal Long Term Care Insurance Program Open Season.

SUMMARY: The Office of Personnel Management is relaxing our previous rule for employees' Federal Long Term Care Insurance Program coverage to become effective. Previously, employees with a December 1, 2002, or January 1, 2003 coverage effective date would have to be actively at work on November 29, 2002 or December 31, 2002, respectively, for coverage to become effective. Considering heavy leave usage on those dates, coverage will not be delayed for employees on approved leave status on those dates, as long as they return to being actively at work during the month when their coverage becomes effective and they pay their premiums within the established deadlines.

DATES: This relaxed rule affects employees with December 1, 2002, or January 1, 2003, Federal Long Term Care Insurance Program coverage effective dates.

FOR FURTHER INFORMATION CONTACT: Office of Personnel Management, Office of Long Term Care Insurance, (202) 606-1413, or ltc@opm.gov.

SUPPLEMENTARY INFORMATION: On June 28, 2002, the Office of Personnel Management announced in the Federal Register an Open Season for eligible persons to apply for coverage in the Federal Long Term Care Insurance Program (FLTCIP). Open Season began on July 1, 2002, and will end on December 31, 2002.

The Federal Register notice stated that the effective date of coverage for an Open Season enrollment is the later of October 1, 2002, or the first day of the month that is after the date LTC Partners approves an application for coverage. A Federal civilian or Postal employee or member of the uniformed services also must be actively at work on the coverage effective date for coverage to become effective. A Federal civilian or Postal employee must meet all of the following conditions to be considered actively at work:

• The employee is reporting for work at his/her usual place of employment or other location to which Government business requires him/her to travel;

• The employee is able to perform all the usual and customary duties of his/her employment on his/her regular work schedule; and

• The employee is not absent from work due to sickness, injury, annual leave, sick leave or any other leave. (An employee is not considered to be on leave on an alternate work schedule's scheduled day off.)

For coverage effective dates that fall on a weekend or holiday, the Federal Register notice stated that an employee must be actively at work on the last workday before his/her coverage effective date for coverage to become effective. This meant that coverage could be delayed for one month, or more, for employees with applications approved in November and December if they were on leave on November 29 or December 31, 2002, respectively.

In view of heavy leave usage on November 29th and December 31st, and in keeping with our objectives of being employee-oriented and family friendly, we have relaxed this actively at work requirement.

For this year only, coverage will not be delayed for employees in an approved leave status November 29 or December 31, 2002, as long as they return to being actively at work during the month when their coverage becomes effective and they pay their premium within established deadlines. This applies to any approved leave, including annual leave, sick leave, leave without pay and administrative leave.

Employees, as well as all applicants, still have an obligation to contact Long Term Care Partners if their health changes in a way that would affect their answers to one or more questions on their long term care insurance application on the effective date of their coverage.

We made this change in response to employee and agency concerns about holiday leave usage toward the end of the Open Season, a period in which large numbers of employees have expressed interest in applying. We also recognize that this is the first FLTCIP Open Season.

This family-friendly policy affects only employees and members of the uniformed services applying with the abbreviated underwriting application and will not be repeated in the future or apply to leave usage other than on November 29 and December 31, 2002. It does not apply to spouses of employees and members of the uniformed services, since they do not have an actively at work requirement, nor does it apply to annuitants, retired members of the uniformed services, or other qualified relatives who apply using the full underwriting application.

Authority: 5 U.S.C. 9008.

Office of Personnel Management.
Kay Coles James,
Director.

[FR Doc. 02-31854 Filed 12-17-02; 8:45 am]

BILLING CODE 6325-50-P